DEPARTMENT OF TRANSPORTATION

Federal Aviation Administration

RTCA Special Committee 202: Portable Electronic Devices

AGENCY: Federal Aviation Administration (FAA), DOT.

ACTION: Notice of RTCA Special Committee 202 Meeting: Portable Electronic Devices.

SUMMARY: The FAA is issuing this notice to advise the public of a meeting of RTCA Special Committee 202: Portable Electronic Devices.

DATES: The meeting will be held on August 6-10, 2007, from 9 a.m. to 4:30 p.m. (unless stated otherwise).

ADDRESSES: The meeting will be held at Conference Rooms, 1828 L Street, NW., Suite 805, Washington, DC 20036.

FOR FURTHER INFORMATION CONTACT: RTCA Secretariat, 1828 L Street, NW., Suite 805, Washington, DC 20036-5133; telephone (202) 833-9339; fax (202) 833-9434; Web site http://www.rtca.org.

Primary Purpose of Meeting: The plenary is to develop consensus on FRAC comment disposition and recommendation to publish DO-YYY design and certification guidance document. The committee will also work on coordination discussions with Consumer Electronics manufacturers for consensus recommendation on T-PED spurious emissions. Plenary sessions are on Wednesday and Thursday afternoons; working group sessions are Monday, Tuesday, and Friday.

SUPPLEMENTARY INFORMATION: Pursuant to section 10(a)(2) of the Federal Advisory Committee Act (Pub. L. 92-463, 5 U.S.C., Appendix 2), notice is hereby given for a Special Committee 202 Portable Electronic Devices meeting. The agenda will include:

• August 6:

• Working Group 6 Session starting at 1 p.m.

• Working Group 6 Coordination—Colson Board Room.

• Review presentation materials for CE Manufacturer discussion, polish materials as necessary, decide on CE manufacturers meeting plan, support from SC-202 members, and prepare report-out to SC-202 plenary meeting.

• August 7:

• Working Group Session starting at 9 a.m.

• Chairmen's strategy session—Colson Board Room.

• Progress and Status update, Overall Review of Plan and Schedule for document completion, recommendations coordination and implementation.

• Working Group 5 Kickoff and Coordination—Colson Board Room.

• Working Groups Sessions.

• Working Group 5 Overall DO-YYY Document—Colson Board Room.

• Sub Group on PED statistical analysis and characterization—Small Conference Room.

• Sub Group on IPL Test—Location TBD.

• Sub Group on Certification Aspects—Garmin Room.

• Chairmen's Strategy Session—Colson Board Room.

• Coordinate Recommendations to Plenary: Plan and Schedule for Remaining Committee Work.

• August 8:

• Opening Plenary Session (Welcome and Introductory Remarks, Agenda Overview).

• Approval of Summary of the Eighteenth Meeting held April 18-19, 2007, RTCA Paper No. 114-07/SC202-136 dated April 30, 2007.

• Update from Regulatory Agencies (FAA, UK-CAA, Canadian TSB, FCC, Japanese-CAB, NCAA-Brazil, or others present).

• Update on EUROCAE Working Group WG58 Status.

• Update on CEA activities, including the CEA Bulletin—Recommended Practice for T-PEDs.

• Working Group 6: PED Spurious Emissions Recommendations Coordination and Implementation.

• Assessment (joint working group withy CEA).

• Schedule and plan for dialog with CE manufacturers, support requirements from SC-202 members.

• Working Group 5: Airplane Design and Certification Guidance.

• Status of FRAC comments, recommended resolutions, plane to complete remaining work, completion of open issues, identify any risks to consensus on final document and proposed actions to mitigate risks.

• Committee discussion on final Phase 2 work plan and schedule for DO-YYY document.

• Break-out Session for WG's as Required.

• WG5 Overall Document and Process—Colson Board Room.

• WG6 PED Spurious Emissions Recommendation—Location TBD.

• Sub Group on PED Statistical analysis and Characterization—Small Conference Room.

• Sub Group on IPL Test—Location TBD.

• Sub Group on Certification Aspect—Garmin Room.

• August 9:

• Starting at 8 a.m.—Colson Board Room.

• Working Group Sessions.

• Working Group 5 Overall DO-YYY Document—Colson Board Room.

• Sub Group on PED statistical analysis and characterization—Small Conference Room.

• Sub Group on IPL Test—Location TBD.

• Sub Group on Certification Aspects—Garmin Room.

• Staring at 10 a.m.—Colson Board Room.

• Chairmen's Day 2 Opening Remarks and Process Check.

• Final Overall Working Group Report will cover the following:

• FRAC Comment disposition status.

• TOR compliance assessment.

• Plan for closure of any open issues.

• Working Group 5 Airplane Design and Certification Guidance recommendation for FRAC.

• Working Group 6 PED Spurious Emissions Recommendations (reporting on plan for completion of recommendations coordination and implementation).

• Plenary Consensus:

• Recommendation to publish final update DO-YYY.

• Understanding of how open items will be completed.

• WG6 plan to coordinate and implement PED Spurious Emissions Recommendations.

• Closing Session (Other Business, Confirm Date and purpose of Upcoming Meetings).

• Twentieth Plenary (tbd)-CEA/SC-202 Consensus Recommendations for implementation of SC-202 recommendations.

• Adjourn to Break-out sessions for Working Groups if required and time permits.

• August 10:

• Working Group 5 and Sub Groups' Action Items and Coordination.

• Groups complete action items, as required—Colson Board Room.

• Divide up into other rooms for sub groups as required.

Attendance is open to the interested public but limited to space availability. With the approval of the chairmen, members of the public may present oral statements at the meeting. Persons wishing to present statements or obtain information should contact the person listed in the FOR FURTHER INFORMATION CONTACT section.

Members of the public may present a written statement to the committee at any time.

Issued in Washington, DC, on July 6, 2007.
Francisco Estrada C.,
RTCA Advisory Committee.

[FR Doc. 07-3444 Filed 7-13-07; 8:45 am]

BILLING CODE 4910-13-M